DEPARTMENT OF STATE

[Delegation of Authority No. 570]

Delegation of Authority—Authorities of the Under Secretary for Public Diplomacy and Public Affairs

ACTION: Delegation of Authority.

SUMMARY: The State Department is publishing a Delegation of Authority signed by the Secretary of State on January 10, 2025.

SUPPLEMENTARY INFORMATION: Antony J. Blinken, Secretary of State, signed the following “Delegation of Authority—Authorities of the Under Secretary for Public Diplomacy and Public Affairs” on January 10, 2025. The State Department maintains the original document.

(Begin text.)

By virtue of the authority vested in the Secretary of State by the laws of the United States, including section 1(a)(4) of the State Department Basic Authorities Act (22 U.S.C. 2651a(a)(4)), I hereby delegate to Scott Weinhold, to the extent authorized by law, all authorities vested in or delegated to the Under Secretary for Public Diplomacy and Public Affairs by any act, order, determination, delegation of authority, regulation, or executive order, now or hereafter issued.

The Secretary, either Deputy Secretary, and the Under Secretary for Management may exercise any function or authority delegated herein. This delegation of authority does not modify any other delegation of authority currently in effect.

This delegation will take effect on January 17, 2025, and will expire, unless sooner revoked, upon the entry upon duty of a confirmed or designated Under Secretary for Public Diplomacy and Public Affairs or Assistant Secretary for Educational and Cultural Affairs, and shall be published in the Federal Register.

(End text.)

Zachary A. Parker,
Director, Office of Organizational Policy, Department of State.

[FR Doc. 2025-01208 Filed 1-16-25; 8:45 am]

BILLING CODE 4710-05-P